DEPARTMENT OF HOMELAND SECURITY

Federal Emergency Management Agency

[Docket ID FEMA-2022-0002; Internal Agency Docket No. FEMA-B-2268]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Alabama: Mobile | City of Mobile (22-04-0855P). | The Honorable William Stimpson, Mayor, City of Mobile, P.O. Box 1827, Mobile, AL 36633. | City Clerk's Office, 205 Government Street, Mobile, AL 36633. | https://msc.fema.gov/portal/advanceSearch. | Nov. 12, 2022 | 015007
Arkansas: Garland | City of Hot Springs (22-06-0650P). | The Honorable Pat McCabe, Mayor, City of Hot Springs, 133 Convention Boulevard, Hot Springs, AR 71901. | Garland County Library, 1427 Malvern Avenue, Hot Springs, AR 71901. | https://msc.fema.gov/portal/advanceSearch. | Nov. 21, 2022 | 050084
Florida:
Columbia | Unincorporated areas of Columbia County (21-04-5275P). | David Kraus, Manager, Columbia County, 135 Northeast Hernando Avenue, Suite 203, Lake City, FL 32056. | Columbia County, Building Department, 135 Northeast Hernando Avenue, Suite 203, Lake City, FL 32056. | https://msc.fema.gov/portal/advanceSearch. | Dec. 1, 2022 | 120070
Flagler | City of Palm Coast (21-04-6036P). | The Honorable David Alfin, Mayor, City of Palm Coast, 160 Lake Avenue, Palm Coast, FL 32164. | City Hall, 160 Lake Avenue, Palm Coast, FL 32164. | https://msc.fema.gov/portal/advanceSearch. | Nov. 25, 2022 | 120684
Hillsborough | Unincorporated areas of Hillsborough County (21-04-3149P). | Bonnie Wise, Hillsborough County Administrator, 601 East Kennedy Boulevard, 26th Floor, Tampa, FL 33602. | Hillsborough County Center, 601 East Kennedy Boulevard, 22nd Floor, Tampa, FL 33602. | https://msc.fema.gov/portal/advanceSearch. | Nov. 21, 2022 | 120112
Monroe | Unincorporated areas of Monroe County (22-04-2673P). | The Honorable David Rice, Mayor, Monroe County Board of Commissioners, 9400 Overseas Highway, Suite 210, Marathon, FL 33050. | Monroe County Building Department, 2798 Overseas Highways, Suite 300, Marathon, FL 33050. | https://msc.fema.gov/portal/advanceSearch. | Nov. 21, 2022 | 120129
Monroe | Unincorporated areas of Monroe County (22-04-3487P). | The Honorable David Rice, Mayor, Monroe County Board of Commissioners, 9400 Overseas Highway, Suite 210, Marathon, FL 33050. | Monroe County Building Department, 2798 Overseas Highways, Suite 300, Marathon, FL 33050. | https://msc.fema.gov/portal/advanceSearch. | Dec. 5, 2022 | 120129
Monroe | Unincorporated areas of Monroe County (22-04-3491P). | The Honorable David Rice, Mayor, Monroe County Board of Commissioners, 9400 Overseas Highway, Suite 210, Marathon, FL 33050. | Monroe County Building Department, 2798 Overseas Highways, Suite 300, Marathon, FL 33050. | https://msc.fema.gov/portal/advanceSearch. | Dec. 5, 2022 | 120129
Monroe | Village of Islamorada (22-04-4369P). | The Honorable Pete Bacheler, Mayor, Village of Islamorada, 86800 Overseas Highway, Islamorada, FL 33036. | Building Department, 86800 Overseas Highway, Islamorada, FL 33036. | https://msc.fema.gov/portal/advanceSearch. | Dec. 12, 2022 | 120424
Orange | City of Orlando (22-04-0539P). | The Honorable Buddy Dyer, Mayor, City of Orlando, 400 South Orange Avenue, Orlando, FL 32801. | Public Works Department, Engineering Division, 400 South Orange Avenue, 8th Floor, Orlando, FL 32801. | https://msc.fema.gov/portal/advanceSearch. | Oct. 25, 2022 | 120186
Palm Beach | Unincorporated areas of Palm Beach County (21-04-1899P). | Verdenia C. Baker, Palm Beach County Administrator, 301 North Olive Avenue, West Palm Beach, FL 33401. | Palm Beach County Building Division, 2300 North Jog Road, West Palm Beach, FL 33411. | https://msc.fema.gov/portal/advanceSearch. | Nov. 25, 2022 | 120192
Polk | Unincorporated areas of Polk County (21-04-0198P). | Bill Beasley, Polk County Manager, 330 West Church Street, Bartow, FL 33831. | Polk County Board of Commissioners, 330 West Church Street, Bartow, FL 33831. | https://msc.fema.gov/portal/advanceSearch. | Nov. 25, 2022 | 120161
Sarasota | Unincorporated areas of Sarasota County (22-04-3339P). | The Honorable Alan Maio, Chair, Sarasota County Board of Commissioners, 1660 Ringling Boulevard, Sarasota, FL 34236. | Sarasota County Planning and Development Services Department, 1001 Sarasota Center Boulevard, Sarasota, FL 34240. | https://msc.fema.gov/portal/advanceSearch. | Nov. 28, 2022 | 125144
Georgia:
Bryan | Unincorporated areas of Bryan County (22-04-1572P). | The Honorable Carter Infinger, Chair, Bryan County Board of Commissioners, 66 Captain Matthew Freeman Drive, Suite 201, Richmond Hill, GA 31324. | Bryan County Department of Public Works, 51 North Courthouse Street, Pembroke, GA 31321. | https://msc.fema.gov/portal/advanceSearch. | Dec. 2, 2022 | 130016
Gwinnett | Unincorporated areas of Gwinnett County (21-04-4015P). | The Honorable Nicole L. Hendrickson, Chair, Gwinnett County Board of Commissioners, 75 Langley Drive, Lawrenceville, GA 30046. | Gwinnett County Department of Planning and Development, 446 West Crogan Street, Suite 300, Lawrenceville, GA 30046. | https://msc.fema.gov/portal/advanceSearch. | Nov. 3, 2022 | 130323
Kentucky: Hardin | City of Elizabethtown (22-04-1909P). | The Honorable Jeff H. Gregory, Mayor, City of Elizabethtown, 200 West Dixie Avenue, Elizabethtown, KY 42701. | Stormwater Department, 200 West Dixie Avenue, Elizabethtown, KY 42701. | https://msc.fema.gov/portal/advanceSearch. | Dec. 1, 2022 | 210095
Louisiana:
Lafayette | City of Youngsville (21-06-3256P). | The Honorable Ken Ritter, Mayor, City of Youngsville, 305 Iberia Street, Youngsville, LA 70592. | City Hall, 305 Iberia Street, Youngsville, LA 70592. | https://msc.fema.gov/portal/advanceSearch. | Oct. 14, 2022 | 220358
Lafayette | Lafayette City-Parish Consolidated Government (21-06-3256P). | The Honorable Josh Guillory, Mayor-President, Lafayette City-Parish Consolidated Government, 705 West University Avenue, Lafayette, LA 70502. | Development and Planning Department, 220 West Willow Street, Building B, Lafayette, LA 70501. | https://msc.fema.gov/portal/advanceSearch. | Oct. 14, 2022 | 220101
Massachusetts:
Middlesex | City of Woburn (21-01-1457P). | The Honorable Scott Galvin, Mayor, City of Woburn, 10 Common Street, Woburn, MA 01801. | Engineering Department, 10 Common Street, Woburn, MA 01801. | https://msc.fema.gov/portal/advanceSearch. | Nov. 28, 2022 | 250229
Plymouth | Town of Marion (22-01-0616P). | The Honorable Randy L. Parker, Chair, Town of Marion Board of Selectmen, 2 Spring Street, Marion, MA 02738. | Building Department, 2 Spring Street, Marion, MA 02738. | https://msc.fema.gov/portal/advanceSearch. | Nov. 21, 2022 | 255213
Montana: Lewis and Clark | Unincorporated areas of Lewis and Clark County (22-08-0043P). | The Honorable Jim McCormick, Chair, Lewis and Clark County Board of Commissioners, 316 North Park Avenue, Room 345, Helena, MT 59623. | Lewis and Clark County, Disaster and Emergency Services Department, 316 North Park Avenue, Room 230, Helena, MT 59623. | https://msc.fema.gov/portal/advanceSearch. | Nov. 25, 2022 | 300038
North Carolina:
Wake | Town of Fuquay-Varina (21-04-4032P). | The Honorable Blake Massengill, Mayor, Town of Fuquay-Varina, 134 North Main Street, Fuquay-Varina, NC 27526. | Engineering Department, 134 North Main Street, Fuquay-Varina, NC 27526. | https://msc.fema.gov/portal/advanceSearch. | Aug. 30, 2022 | 370368
Wake | Unincorporated areas of Wake County (21-04-4032P). | The Honorable Sig Hutchinson, Chair, Wake County Board of Commissioners, P.O. Box 550, Raleigh, NC 27602. | Wake County Environmental Services Department, 337 South Salisbury Street, Raleigh, NC 27601. | https://msc.fema.gov/portal/advanceSearch. | Aug. 30, 2022 | 370368
Ohio:
Putnam | Unincorporated areas of Putnam County (21-05-3623P). | The Honorable Michael Lammers, Chair, Putnam County Board of Commissioners, 245 East Main Street, Suite 101, Ottawa, OH 45875. | Putnam County Courthouse, 245 East Main Street, Suite 101, Ottawa, OH 45875. | https://msc.fema.gov/portal/advanceSearch. | Nov. 25, 2022 | 390465
Putnam | Village of Glandorf (21-05-3623P). | The Honorable Charles R. Schroeder, Mayor, Village of Glandorf, P.O. Box 131, Glandorf, OH 45848. | Village Hall, 203 North Main Street, Glandorf, OH 45848. | https://msc.fema.gov/portal/advanceSearch. | Nov. 25, 2022 | 390470
Putnam | Village of Ottawa (21-05-3623P). | The Honorable J. Dean Meyer, Mayor, Village of Ottawa, 136 North Oak Street, Ottawa, OH 45875. | Village Hall, 136 North Oak Street, Ottawa, OH 45875. | https://msc.fema.gov/portal/advanceSearch. | Nov. 25, 2022 | 390472
Tennessee: Williamson | Unincorporated areas of Williamson County (22-04-1913P). | The Honorable Rogers Anderson, Mayor, Williamson County, 1320 West Main Street, Suite 125, Franklin, TN 37064. | Williamson County Community Development Department, 1320 West Main Street, Suite 400, Franklin, TN 37064. | https://msc.fema.gov/portal/advanceSearch. | Oct. 21, 2022 | 470204
Texas:
Collin | City of McKinney (21-06-1828P). | The Honorable George Fuller, Mayor, City of McKinney, P.O. Box 517, McKinney, TX 75070. | Engineering Department, 221 North Tennessee Street, McKinney, TX 75069. | https://msc.fema.gov/portal/advanceSearch. | Oct. 24, 2022 | 480135
Collin | City of McKinney (21-06-3118P). | The Honorable George Fuller, Mayor, City of McKinney, P.O. Box 517, McKinney, TX 75070. | Engineering Department, 221 North Tennessee Street, McKinney, TX 75069. | https://msc.fema.gov/portal/advanceSearch. | Dec. 5, 2022 | 480135
Collin | Unincorporated areas of Collin County (21-06-1828P). | The Honorable Chris Hill, Collin County Judge, 2300 Bloomdale Road, Suite 4192, McKinney, TX 75091. | Collin County Engineering Department, 4690 Community Avenue, Suite 200, McKinney, TX 75091. | https://msc.fema.gov/portal/advanceSearch. | Oct. 24, 2022 | 480130
Johnson | City of Burleson (22-06-1762P). | The Honorable Chris Fletcher, Mayor, City of Burleson, 141 West Renfro Street, Burleson, TX 76028. | City Hall, 141 West Renfro Street, Burleson, TX 76028. | https://msc.fema.gov/portal/advanceSearch. | Dec. 8, 2022 | 485459

[FR Doc. 2022-18713 Filed 8-29-22; 8:45 am]

BILLING CODE 9110-12-P